DEPARTMENT OF THE INTERIOR

Bureau of Land Management

[WO-310-1310-PB-24-1A]

OMB Control Number 1004-0134, Information Collection Submitted to the Office of Management and Budget Under the Paperwork Reduction Act

The Bureau of Land Management (BLM) has sent a request to extend the current information collection to the Office of Management and Budget (OMB) under the provisions of the Paperwork Reduction Act of 1995 (44 U.S.C. 3501 et seq.). On February 10, 2003, the BLM published a notice in the Federal Register (68 FR 6759) requesting comment on this information collection. The comment period ended on April 11, 2003. BLM received no comments. You may obtain copies of the collection of information and related forms and explanatory material by contacting the BLM Information Collection Clearance Officer at the telephone number listed below.

The OMB must respond to this request within 60 days but may respond after 30 days. For maximum consideration your comments and suggestions on the requirements should be directed within 30 days to the Office of Management and Budget, Interior Department Desk Officer (1004-0134), at OMB-OIRA via facsimile to (202) 395-6566 or e-mail to OIRA_DOCKET@omb.eop.gov. Please provide a copy of your comments to the Bureau Information Collection Clearance Officer (WO-630), Bureau of Land Management, Eastern States Office, 7450 Boston Blvd., Springfield, Virginia 22153.

Nature of Comments: We specifically request your comments on the following:

1. Whether the collection of information is necessary for the proper functioning of the BLM, including whether the information will have practical utility;

2. The accuracy of our estimates of the information collection burden, including the validity of the methodology and assumptions we use;

3. Ways to enhance the quality, utility and clarity of the information we collect; and

4. Ways to minimize the information collection burden on those who are to respond, including the use of appropriate automated, electronic, mechanical, or other forms of information technology.

Title: Onshore Oil and Gas Operations Nonform Information (43 CFR 3160).

OMB Control Number: 1004-0134.

Bureau Form Number(s): 0.

Abstract: The Bureau of Land Management (BLM) collects and uses the information from Federal and Indian (except Osage) oil and gas operators and operating rights owners to approve proposed operations and monitor compliance with granted approvals.

Frequency: Occasional and nonrecurring.

Description of Respondents: Operators and operating rights owners of oil and gas leases.

Estimated Completion Time:

Information collection (43 CFR) | Requirement | Hours per response | Total respondents | Total burden hours
3162.3-1(a) | Well-Spacing Program | 0.5 | 150 | 75
3162.3-1(e) | Drilling Plans | 8 | 2,875 | 23,000
3162.6 | Well Markers | 0.5 | 300 | 150
3162.5-2(b) | Direction Drilling | 1 | 165 | 165
3162.4-2(a) | Drilling Tests, Logs, Surveys | 1 | 330 | 330
3162.3-4(a) | Plug and Abandon for Water Injection | 1.5 | 1,200 | 1,800
3162.3-4(b) | Plug and Abandon for Water Source | 1.5 | 1,200 | 1,800
3162.7-1(d) | Additional Gas Flaring | 1 | 400 | 400
3162.5-1(c) | Report of Spills, Discharges, or Other Undesirable Events | 2 | 200 | 400
3162.5-1(b) | Disposal of Produced Water | 2 | 1,500 | 3,000
3162.5-1(d) | Contingency Plan | 16 | 50 | 800
3162.4-1(a) and 3162.7-5(d)(1) | Schematic/Facility Diagrams | 4 | 2,350 | 9,400
3162.7-1(b) | Approval and Reporting of Oil in Pits | 0.5 | 520 | 260
3164.1 (Order No. 3) | Prepare Run Tickets | 0.2 | 90,000 | 18,000
3162.7-5(b) | Records on Seals | 0.2 | 90,000 | 18,000
3165.1(a) | Application for Suspension | 8 | 100 | 800
3165.3(b) | State Director Review | 16 | 100 | 1,600
3162.7-5(c) | Site Security | 7 | 2,415 | 16,904
Totals |  |  | 193,855 | 96,885

Annual Responses: 193,855.

Application Fee Per Response: 0.

Annual Burden Hours: 96,885.

Bureau Clearance Officer: Michael Schwartz, (202) 452-5033.

Dated: January 14, 2004.
Michael H. Schwartz,
Bureau of Land Management, Information Collection Clearance Officer.

[FR Doc. 04-2162 Filed 2-2-04; 8:45 am]

BILLING CODE 4310-84-M